DEPARTMENT OF LABOR

Employment and Training Administration

[TA-W-56,586]

Lawson-Hemphill Sales, Inc., Spartanburg, SC; Notice of Negative Determination on Reconsideration

On April 6, 2005, the Department issued an Affirmative Determination Regarding Application for Reconsideration for the workers and former workers of the subject facility. The notice of determination was published on April 25, 2005 in the Federal Register (70 FR 21250). Workers at the subject facility sell textile testing instruments.

On January 24, 2005, a company official filed the petition as a secondarily-affected company (affected by loss of business as a supplier, assembler, or finisher of products or components produced for a TAA certified firm). The Department denied Trade Adjustment Assistance (TAA) and Alternative Trade Adjustment Assistance (ATAA) to workers and former workers of Lawson-Hemphill Sales, Inc., Spartanburg, South Carolina because the worker separation eligibility requirement of Section 222 of the Trade Act of 1974, as amended, was not met. The investigation revealed that the subject facility neither separated nor threatened to separate a significant number or proportion of workers at the subject facility during the relevant period (January-December 2004).

In the request for reconsideration, the petitioner alleged that the subject facility supported an affiliated production facility, Lawson-Hemphill, Inc., Central Falls, Rhode Island.

A careful review of previously-submitted documents revealed that a significant number of the workers at the South Carolina facility were separated or threatened with separation during the relevant period and that the primary function of the South Carolina facility is to sell textile testing instruments produced at the Rhode Island facility.

Even if the subject worker group supported production at the Rhode Island facility, they could not be certified for TAA under this petition because the Rhode Island facility was not affected by loss of business as a supplier, assembler, or finisher of products or components produced for the TAA-certified firms identified in the petition: Globe Manufacturing, Fall River, Massachusetts (TA-W-38,840); Cavalier Specialty Yarn, Gastonia, North Carolina (TA-W-53,226); Cone Mills Corporation, Cliffside, North Carolina (TA-W-53,291A); Pillowtex Corporation, Kannapolis, North Carolina (TA-W-39,416); Burlington Industries, Greensboro, North Carolina (TA-W-40,205); and Spartan Mills, Spartanburg, South Carolina (TA-W-37,126).

Lawson-Hemphill, Inc. cannot be considered a secondarily-affected company because textile testing instruments is not a component of textiles and the company neither assembles nor finishes an article produced by the above-identified companies.

Since the workers are denied eligibility to apply for TAA, the workers cannot be certified eligible for ATAA.

Conclusion

After careful reconsideration, I affirm the original notice of negative determination of eligibility to apply for worker adjustment assistance for workers and former workers of Lawson-Hemphill Sales, Inc., Spartanburg, South Carolina.

Signed at Washington, DC, this 30th day of June, 2005.
Elliott S. Kushner,
Certifying Officer, Division of Trade Adjustment Assistance.

[FR Doc. E5-3738 Filed 7-13-05; 8:45 am]

BILLING CODE 4510-30-P